DEPARTMENT OF TRANSPORTATION

Federal Aviation Administration

[Docket No. FAA-2019-0847]

Agency Information Collection Activities: Requests for Comments; Clearance of a New Approval of Information Collection: FAA Aircraft Pilots Workforce Development Grant Program

AGENCY: Federal Aviation Administration (FAA), DOT.

ACTION: Notice and request for comments.

SUMMARY: In accordance with the Paperwork Reduction Act of 1995, FAA invites public comments about our intention to request the Office of Management and Budget (OMB) approval for a new information collection. The collection involves the establishment of a new grant program in the FAA for the Aircraft Pilots Workforce Development. The information to be collected will be used for selecting projects.

DATES: Written comments should be submitted by January 27, 2020.

ADDRESSES: Please send written comments:

By Electronic Docket: www.regulations.gov (Enter docket number into search field).

By mail: Linda Long, William J. Hughes Technical Center, Atlantic City International Airport, B300, 2nd Floor, Column H-15, Atlantic City, NJ 08405.

By fax: 609-485-4101.

FOR FURTHER INFORMATION CONTACT: Linda Long by email at: Linda.Long@faa.gov; phone: 609-485-8902.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: FAA Aircraft Pilots Workforce Development Grant Program.

Form Numbers: Form SF-424, SF-424A, SF424B, SF-LLL, Key Contacts Form V1.0, Project Narrative Attachment Form V1.2, Budget Narrative Attachment Form V1.2, Project/Performance Site Location (s) V2.0, Other Attachment Form V1.2.

Type of Review: New information collection.

Background: This is a new collection and is required to retain a benefit from the Federal Aviation Administration (FAA). The new collection will be conducted for reporting purposes and will assist in the FAA in administering a new Aircraft Pilots Workforce Development Grant Program. The program is mandated by FAA Reauthorization of 2018, Public Law 115-254 for the purpose to (1) Create and deliver curriculum designed to provide high school students with meaningful aviation education that is designed to prepare the students to become aircraft pilots, aerospace engineers, or unmanned aircraft systems operators. (2) Support the professional development of teachers using the above curriculum.

Under this new authority, the FAA intends to collect information from the following categories of eligible applicants identified in the legislation. (1) Accredited Higher Education Institution (20 U.S.C. 1001), Secondary school or high school (20 U.S.C. 7801). (2) State or local government entity. (3) Air Carriers (sec. 40102, title 49) or labor unions representing aircrafts pilots and (4) Flight School that provides flight training (part 61, title 14) or holds a pilot school certificate (part, 141, title 14).

The collection will be conducted by the FAA in applications for grant awards not more frequently than annually with quarterly and final reports from all grant recipients. It will provide critical data on locations where the grant dollars are being used to plan and respond the aircraft pilot workforce shortage. This information will provide the FAA with an indication of where gaps exist in planning for the workforce shortage and will help the FAA determine which projects have the great ability to help address the forecasted aircraft pilot shortage.

Respondents: The Legislation identified the following categories of applicants as eligible to apply for grants under this program. The Program expects approximately 10 respondents from each category below for a total of approximately 40 respondents:

(1) Accredited Higher Education Institution (20 U.S.C. 1001), Secondary school or high school (20 U.S.C. 7801).

(2) State or local government entity.

(3) Air Carriers (sec. 40102, title 49) or labor unions representing aircrafts pilots.

(4) Flight School that provides flight training (part 61, title 14) or holds a pilot school certificate (part, 141, title 14).

The legislation also requires the FAA to ensure participation from a diverse collection of public and private schools in rural, suburban, and urban areas.

Frequency: The collection will be conducted by the FAA in applications for grant awards not more frequently than annually with quarterly and final reports from all grant recipients.

Estimated Average Burden per Response: 4 Hours per respondent.

Estimated Total Annual Burden Hours: Estimated to be 456 hours.

Issued in Atlantic City, NJ, on November 18, 2019.
Linda A. Long,
Program Manager, Aviation Workforce Development Grant Programs. NextGen Partnership Contracts Branch (ANG-A17).

[FR Doc. 2019-25680 Filed 11-25-19; 8:45 am]

BILLING CODE 4910-13-P